DEPARTMENT OF DEFENSE

Defense Acquisition Regulations System

[Docket DARS-2019-0063; OMB Control Number 0750-0002]

Information Collection; Covered Defense Telecommunications Equipment or Services; Submission for OMB Review; Comment Request

AGENCY: Defense Acquisition Regulations System, Department of Defense (DOD).

ACTION: Notice.

SUMMARY: The Defense Acquisition Regulations System has submitted to OMB for clearance, the following proposal for extension of a collection of information under the provisions of the Paperwork Reduction Act.

DATES: Consideration will be given to all comments received by July 29, 2020.

SUPPLEMENTARY INFORMATION:

Title, Associated Form, and OMB Number: Defense Federal Acquisition Regulation Supplement (DFARS); DFARS Part 204, Covered Defense Telecommunications Equipment or Services; OMB Control Number 0750-0002.

Affected Public: Businesses and other for-profit entities.

Respondent's Obligation: Required to obtain or retain benefits.

Type of Request: Extension of a currently approved collection.

Reporting Frequency: At least annually.

Number of Respondents: 216,843.

Responses per Respondent: 2.

Annual Responses: 432,939.

Preparation Hours per Response (weighted average of the estimated hours to complete the representations, the disclosure, and the report): 4.45 hours

Annual Response Burden Hours: 97,359.

A notice requesting that OMB provide emergency clearance of collections of information was published in the Federal Register at 84 FR 69362, on December 18, 2019. OMB authorized emergency processing of an information collection involved in this rule under OMB Control Number 0750-0002. This notice was published in conjunction with pubication of an interim rule under DFARS Case 2018-D022, Covered Defense Telecommunications Equipment or Services, published on December 31, 2019, at 84 FR 72231.

Needs and Uses: The collection of information is necessary to protect against foreign interference with DoD telecommunications, which could jeopardize our military communications, the lives of our warfighters, and our national security. The collection of information is essential to the mission of the agencies to ensure DoD does not purchase prohibited equipment, systems, and services, and can respond appropriately if any such purchases are not identified until after delivery or use.

This requirement supports implementation of section 1656(b) of the National Defense Authorization Act for Fiscal Year 2018. Section 1656 prohibits DoD from procuring or obtaining, or extending or renewing a contract to procure or obtain, any equipment, system, or service to carry out the nuclear deterrence mission and homeland defense mission that uses covered telecommunications equipment or services as a substantial or essential component of any system, or as critical technology as a part of any system.

This requirement is implemented in the Defense Federal Acquisition Regulation Supplement (DFARS) through the provision at 252.204-7016, Covered Defense Telecommunications Equipment or Services—Representation, the provision at 252.204-7017, Prohibition on the Acquisition of Covered Defense Telecommunications Equipment or Services—Representation, and the clause at 252.204-2018, Prohibition on Acquisition of Covered Defense Telecommunications Equipment or Services.

This clearance covers the following requirements:

• DFARS 252.204-7016 requires the offeror to represent whether it does or does not provide covered defense telecommunications equipment or services as a part of its offered products or services to the Government in the performance of any contract, subcontract, or other contractual instrument.

• DFARS 252.204-7017 requires that if an offeror provides an affirmative representation under the provision at 252.204-7016, Covered Defense Telecommunications Equipment or Services—Representation, that offeror is required to represent whether it will or will not provide under the contract, covered defense telecommunications equipment or services.

• DFARS 252.204-7018 requires contractors to report covered telecommunications equipment, systems and services identified during performance of a contract.

OMB Desk Officer: Comments and recommendations on the proposed information collection should be sent to Ms. Susan Minson, DoD Desk Officer, at Oira_submission@omb.eop.gov. Please identify the proposed information collection by DoD Desk Officer and the Docket ID number and title of the information collection.

You may also submit comments, identified by docket number and title, by the following method:

Federal eRulemaking Portal: http://www.regulations.gov. Follow the instructions for submitting comments.

DoD Clearance Officer: Requests for copies of the information collection proposal should be sent to Ms. Angela James at whs.mc-alex.esd.mbx.dd-dod-information-collections@mail.mil.

Jennifer Lee Hawes,
Regulatory Control Officer, Defense Acquisition Regulations System.

[FR Doc. 2020-13977 Filed 6-26-20; 8:45 am]

BILLING CODE 5001-06-P